UNIFIED CARRIER REGISTRATION PLAN

Sunshine Act Meetings

TIME AND DATE: October 24, 2024, 12:00 p.m. to 3:00 p.m., Eastern Time.

PLACE: The meeting will take place at the Atlanta Marriott Northwest at Galleria 200 Interstate North Parkway, Atlanta, GA 30339. The meeting will also be accessible via conference call and via Zoom Meeting and Screenshare. Any interested person may call (i) 1-929-205-6099 (US Toll) or 1-669-900-6833 (US Toll), Meeting ID: 959 2582 0112, to listen and participate in this meeting. The website to participate via Zoom Meeting and Screenshare is https://kellen.zoom.us/meeting/register/tJEkdeygrDsrG9aZGuO8EERziWj3QruXVtwg.

STATUS: Portions of this meeting will be open to the public. A portion of this meeting will be closed to the public.

MATTERS TO BE CONSIDERED: The Unified Carrier Registration Plan Board of Directors (the “Board”) will continue its work in developing and implementing the Unified Carrier Registration Plan and Agreement. The subject matter of this meeting will include:

Proposed Agenda

Portions Open to the Public

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed. The Board will consider action to adopt.

Ground Rules

➢ Board actions taken only in designated areas on the agenda.

IV. Approval of Minutes of the August 15, 2024, UCR Board Meeting—UCR Board Chair

For Discussion and Possible Board Action

Draft Minutes from the August 15, 2024, UCR Board meeting will be reviewed. The Board will consider action to approve.

V. Report of FMCSA—FMCSA Representative

The Federal Motor Carrier Safety Administration (FMCSA) will provide a report on any relevant agency activity, including the status of the FMCSA's Notice of Proposed Rulemaking concerning the 2025 UCR Registration Fee.

VI. Subcommittee Reports

Audit Subcommittee—UCR Audit Subcommittee Chair

Require all UCR Participating States To Utilize the Address of the UCR's National Registration System in Idaho Falls, ID, for the Remittance of All Mailed UCR Registration Fees—UCR Audit Subcommittee Chair

For Discussion and Possible Board Action

The Audit Subcommittee Chair will discuss a proposal to require all participating Sates to utilize the address of the UCR's National Registration System in Idaho Falls, ID, for the remittance of all mailed UCR registration fees. The Board may consider a proposal to require all UCR participating states to utilize the address of the UCR's National Registration System in Idaho Falls, ID, for the remittance of all mailed UCR registration fees.

Dispute Resolution Subcommittee—UCR Dispute Resolution Subcommittee Chair

No report.

Education and Training Subcommittee—UCR Education and Training Subcommittee Chair

The UCR Education and Training Subcommittee Chair will discuss the development of key projects. The projects that will be discussed include the development of the educational audit certificate program, the optimization and redesign of the website, and the creation of a video explaining the purpose and value of the UCR Plan and the National Registration System it operates.

Enforcement Subcommittee—UCR Enforcement Subcommittee Chair

No report.

Finance Subcommittee—UCR Finance Subcommittee Chair and UCR Depository Manager

A. 2022 Financial Audit Recommendations—UCR Finance Subcommittee Chair and UCR Depository Manager

For Discussion and Possible Board Action

The UCR Finance Subcommittee Chair and the UCR Depository Manager will provide an update on UCR's 2022 Financial Audit recommendations made by the external auditor. The Board will consider whether to adopt the recommendations made by the external auditor.

B. The Finance Subcommittee Recommendation to the UCR Board for the Selection of an External Auditor To Audit the Unified Carrier Registration Plan Depository for the Year Ended December 31, 2023—UCR Finance Subcommittee Chair and UCR Depository Manager

For Discussion and Possible Board Action

The UCR Finance Subcommittee Chair and the UCR Depository Manager will provide an update on the selection of an audit firm to conduct the 2023 external audit. The UCR Finance Subcommittee recommends the appointment of Williams Benator and Libby, LLP (“WBL”) to serve as the external auditors for the 2023 financial year. The Board may take action to engage the services of an external auditor for the Unified Carrier Registration Plan Depository for the year ended December 31, 2023.

Industry Advisory Subcommittee—UCR Industry Advisory Subcommittee Chair

No report.

VII. Contractor Reports—UCR Board Chair

UCR Executive Director Report

The UCR Executive Director will provide a report covering his recent activity for the UCR Plan including any changes in the dates of UCR meetings in 2024.

UCR Administrator Report (Kellen)

The UCR Chief of Staff will provide a management update covering recent activity for the Depository, Operations, and Communications.

DSL Transportation Services, Inc.

DSL Transportation Services, Inc. will report on the latest data from the FARs program, Tier 5 and 6 unregistered motor carriers, and other matters.

Seikosoft

Seikosoft will provide an update on its recent/new activity related to the UCR's National Registration System.

Portion Closed to the Public

Pursuant to the Government in the Sunshine Act at 5 U.S.C. 552b(d)(1), the Board will now vote to approve closing the portion of the meeting dealing with item VIII on the agenda.

UCR's Legal Counsel has advised that the Board may close this portion of this meeting pursuant to Government in the Sunshine Act exemptions (9)(B) and (10). By approving this action, the Board determines that public participation would likely disclose information for which premature disclosure would likely frustrate implementation of a proposed agency action and/or specifically concern the discussion of information, the premature disclosure of which would likely negatively impact the agency's participation in an ongoing civil action or proceeding. Therefore, by approving this action, the Board is invoking exemptions (9)(B) and (10) to close this portion of the meeting (5 U.S.C. 552b(c)(9)(B) and (10)).

A copy of the vote on the closure of this portion of this meeting will be made publicly available on the Unified Carrier Registration Plan website within one day of the vote taken herein (https://plan.ucr.gov).

VIII. Discussion and Possible UCR Board Action Concerning the Federal Trademark Cancellation Proceeding Initiated by the Small Business in Transportation Coalition, Inc. (“SBTC”) Before the Trademark Trial and Appeal Board (“TTAB”)—UCR Legal Counsel

For Discussion and Possible Action

UCR Legal Counsel will discuss the federal Trademark Cancellation Proceeding initiated by the SBTC before the TTAB. UCR Legal Counsel will also discuss the legal and financial options available to the UCR in responding to the letter received on September 5, 2024, from legal counsel to the SBTC proposing settlement terms for the TTAB proceeding. The Board may vote to authorize legal and/or financial responses to the September 5, 2024, settlement letter.

Portions Open to the Public

IX. UCR Legal Counsel Will Announce Any Action Taken by the UCR Board

X. Other Business—UCR Board Chair

The UCR Board Chair will call for any other business, old or new, from the floor.

XI. Adjournment—UCR Board Chair

The UCR Board Chair will adjourn the meeting.

The agenda will be available no later than 5:00 p.m. Eastern time, October 17, 2024, at: https://plan.ucr.gov.

Contact Person for More Information: Elizabeth Leaman, Chair, Unified Carrier Registration Plan Board of Directors, (617) 305-3783, eleaman@board.ucr.gov.

Alex B. Leath,
Chief Legal Officer, Unified Carrier Registration Plan.

[FR Doc. 2024-24933 Filed 10-23-24; 11:15 am]

BILLING CODE 4910-YL-P